DEPARTMENT OF TRANSPORTATION

Federal Aviation Administration

14 CFR Part 39

[Docket No. FAA-2005-21464; Directorate Identifier 2005-CE-32-AD]

RIN 2120-AA64

Airworthiness Directives; SOCATA—Groupe AEROSPATIALE Model TBM 700 Airplanes

AGENCY: Federal Aviation Administration (FAA), DOT.

ACTION: Notice of proposed rulemaking (NPRM).

SUMMARY: The FAA proposes to adopt a new airworthiness directive (AD) for certain SOCATA—Groupe AEROSPATIALE (SOCATA) Model TBM 700 airplanes. This proposed AD would require you to inspect the fuselage skin in the VHF1 antenna mounting area for cracks and loose rivets. This proposed AD would also require you to modify the area if you find cracks or loose rivets. This proposed AD results from mandatory continuing airworthiness information (MCAI) issued by the airworthiness authority for France. We are issuing this proposed AD to detect and correct cracks in the fuselage skin, which could result in loss of aircraft pressurization. Loss of aircraft pressurization could lead to flight crew incapacitation.

DATES: We must receive any comments on this proposed AD by August 19, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact EADS SOCATA Tarbes, Direction des Services, 65921 Tarbes Cedex 9, France; telephone: 33 (0)5 62.41.73.00; facsimile: 33 (0)5 62.41.76.54; or SOCATA AIRCRAFT, North Perry Airport, 7501 Pembroke Road, Pembroke Pines, Florida 33023.

To view the comments to this proposed AD, go to http://dms.dot.gov. This is docket number FAA-2005-21464; Directorate Identifier 2005-CE-32-AD.

FOR FURTHER INFORMATION CONTACT: Peter L. Rouse, Aerospace Engineer, FAA, Small Airplane Directorate, 901 Locust, Room 301, Kansas City, Missouri 64106; telephone: (816) 329-4135; facsimile: (816) 329-4090.

SUPPLEMENTARY INFORMATION:

Comments Invited

How do I comment on this proposed AD? We invite you to submit any written relevant data, views, or arguments regarding this proposal. Send your comments to an address listed under ADDRESSES. Include the docket number, “FAA-2005-21464; Directorate Identifier 2005-CE-32-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21464; Directorate Identifier 2005-CE-32-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Direction Générale de L'Aviation Civile (DGAC), which is the airworthiness authority for France, notified FAA that an unsafe condition may exist on certain SOCATA Model TBM 700 airplanes. The DGAC reports cracks in the fuselage skin by the passenger door on the affected airplanes. These airplanes have a VHF1 antenna mounted under the fuselage between frame C12 and C13 or C13 and C13bis.

Investigations reveal that antenna vibrations are causing the cracks.

What is the potential impact if FAA took no action? If not detected and corrected, cracks in the fuselage skin could cause loss of aircraft pressurization. Loss of pressurization could lead to flight crew incapacitation.

Is there service information that applies to this subject? SOCATA has issued Mandatory Service Bulletin TBM Aircraft, SB 70-103, Amendment 1, ATA No. 53, dated September 2003; and Recommended Service Bulletin TBM Aircraft, SB 70-111, ATA No. 53, dated October 2003.

What are the provisions of this service information? These service bulletins include procedures for:

—Mandatory Service Bulletin TBM Aircraft, SB 70-103, Amendment 1, ATA No. 53, dated September 2003: inspecting the fuselage skin where the VHF1 antenna mounts under the fuselage between frame C12 and C13 or C13 and C13bis, for cracks and loose rivets.

—Recommended Service Bulletin TBM Aircraft, SB 70-111, ATA No. 53, dated October 2003: reinforcing the VHF1 antenna bracket between frame C12 and C13 and the VHF1 antenna bracket between C13 and C13bis and procedures for modifying the antenna and fuselage interface.

What action did the DGAC take? The DGAC classified these service bulletins as mandatory and issued French AD Number F-2003-367 R1, Distribution A, Issue date: February 4, 2004, to ensure the continued airworthiness of these airplanes in France.

Did the DGAC inform the United States under the bilateral airworthiness agreement? These SOCATA Model TBM 700 airplanes are manufactured in France and are type-certificated for operation in the United States under the provisions of section 21.29 of the Federal Aviation Regulations (14 CFR 21.29) and the applicable bilateral airworthiness agreement.

Under this bilateral airworthiness agreement, the DGAC has kept us informed of the situation described above.

FAA's Determination and Requirements of This Proposed AD

What has FAA decided? We have examined the DGAC's findings, reviewed all available information, and determined that AD action is necessary for products of this type design that are certificated for operation in the United States.

Since the unsafe condition described previously is likely to exist or develop on other SOCATA Model TBM 700 airplanes of the same type design that are registered in the United States, we are proposing AD action to detect and correct cracks in the fuselage skin, which could result in loss of aircraft pressurization. Loss of aircraft pressurization could lead to flight crew incapacitation.

What would this proposed AD require? This proposed AD would require you to incorporate the actions in the previously-referenced service bulletins.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 185 airplanes in the U.S. registry.

What would be the cost impact of this proposed AD on owners/operators of the affected airplanes? We estimate the following costs to do the proposed inspection:

Labor cost | Parts cost | Total cost per airplane | Total cost on U.S. operators
1 work hour × $65 per hour = $65 | Not applicable | $65 | $65 × 185 = $12,025.

We estimate the following costs to do the proposed modification.

Labor cost | Parts cost | Total cost per airplane
4 work hours × $65 per hour = $260 | $181 | $441

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the National Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2005-21464; Directorate Identifier 2005-CE-32-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

SOCATA—Groupe AEROSPATIALE: Docket No. FAA-2005-21464; Directorate Identifier 2005-CE-32-AD.

When Is the Last Date I Can Submit Comments on This Proposed AD?

(a) We must receive comments on this proposed airworthiness directive (AD) by August 19, 2005.

What Other ADs Are Affected by This Action?

(b) None.

What Airplanes Are Affected by This AD?

(c) This AD affects the following Model TBM 700 airplanes, serial numbers 1 through 255; 257 through 267; and 270, that are:

(1) equipped with a VHF1 antenna mounted under the fuselage between frame C12 and C13 or C13 and C13bis; and

(2) certificated in any category.

What Is the Unsafe Condition Presented in This AD?

(d) This AD is the result of mandatory continuing airworthiness information (MCAI) issued by the airworthiness authority for France. The actions specified in this AD are intended to detect and correct cracks in the fuselage skin, which could result in loss of aircraft pressurization. Loss of aircraft pressurization could lead to flight crew incapacitation.

What Must I Do To Address This Problem?

(e) To address this problem, you must do the following:

Note: The EADS SOCATA Mandatory Service Bulletin TBM Aircraft, SB 70-103, Amendment 1, ATA No. 53, dated September 2003, allows the pilot to perform the visual inspection of the fuselage skin in the VHF1 antenna mount area for cracks and loose rivets. The Federal Aviation Regulations (14 CFR 43.3) only allow the pilot to perform preventive maintenance as described in 14 CFR part 43, App. A, paragraph (c). These visual inspections are not considered preventive maintenance under 14 CFR part 43, App. A, paragraph (c). Therefore, an appropriately-rated mechanic must perform all actions of this AD.

Actions | Compliance | Procedures
(1) Inspect the fuselage skin in the VHF1 antenna mount area between frame C12 and C13 or C13 and C13bis, for cracks and loose rivets | Within the next 50 hours time-in-service (TIS) after the effective date of this AD. Repetitively inspect thereafter at intervals not to exceed 50 hours TIS until the modification in paragraph (e)(2) of this AD is done. Modifying the VHF1 antenna bracket and interface area terminates the repetitive inspection requirement of this AD | Follow EADS SOCATA Mandatory Service Bulletin TBM Aircraft, SB 70-103, Amendment 1, ATA No. 53, dated September 2003.
(2) Modify the VHF1 antenna bracket and the antenna/fuselage interface | At whichever of the following that occurs first: (i) Before further flight anytime a crack or loose rivet is found during any inspection required in paragraph (e)(1) of this AD. (ii) Within 100 hours TIS or 12 months after the effective date of this AD, whichever occurs later. | Follow EADS SOCATA Recommended Service Bulletin TBM Aircraft, SB 70-111, ATA No. 53, dated October 2003, and the applicable maintenance manual.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Peter L. Rouse, Aerospace Engineer, FAA, Small Airplane Directorate, 901 Locust, Room 301, Kansas City, Missouri 64106; telephone: (816) 329-4135; facsimile: (816) 329-4090.

Is There Other Information That Relates to This Subject?

(g) French AD Number F-2003-367 R1, Distribution A, Issue date: February 4, 2004, also addresses the subject of this AD.

May I Get Copies of the Documents Referenced in This AD?

(h) To get copies of the documents referenced in this AD, contact EADS SOCATA Tarbes, Direction des Services, 65921 Tarbes Cedex 9, France; telephone: 33 (0)5 62.41.73.00; facsimile: 33 (0)5 62.41.76.54; or SOCATA AIRCRAFT, North Perry Airport, 7501 Pembroke Road, Pembroke Pines, Florida 33023. To view the AD docket, go to the Docket Management Facility; U.S. Department of Transportation, 400 Seventh Street, SW., Nassif Building, Room PL-401, Washington, DC, or on the Internet at http://dms.dot.gov. This is docket number FAA-2005-21464; Directorate Identifier 2005-CE-32-AD.

Issued in Kansas City, Missouri, on June 28, 2005.
David R. Showers,
Acting Manager, Small Airplane Directorate, Aircraft Certification Service.

[FR Doc. 05-13333 Filed 7-6-05; 8:45 am]

BILLING CODE 4910-13-P